COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by the nonprofit agency employing persons who are blind or have other severe disabilities.

DATES: Comments must be received on or before: September 30, 2013.

ADDRESSES: Committee for Purchase From People Who Are Blind or Severely Disabled, 1401 S Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to Procurement List for production by the nonprofit agency listed:

Products:

NSN: 6645-00-NIB-0141—Clock, Wall, Quartz Movement, 14.5″

NSN: 6645-00-NIB-0143—Clock, Wall, Self-Set Movement, 14.5″

NSN: 6645-00-NIB-0145—Clock, Wall, Quartz Movement, 16.5″

NSN: 6645-00-NIB-0147—Clock, Wall, Self-Set Movement, 16.5″

Coverage: A-List for the Total Government Requirement as aggregated by the General Services Administration.

NSN: 6645-00-NIB-0142—Clock, Wall, Quartz Movement, Customizable Logo, 14.5″

NSN: 6645-00-NIB-0144—Clock, Wall, Self-Set Movement, Customizable Logo, 14.5″

NSN: 6645-00-NIB-0146—Clock, Wall, Quartz Movement, Customizable Logo, 16.5″

NSN: 6645-00-NIB-0148—Clock, Wall, Self-Set Movement, Customizable Logo, 16.5″

NSN: 6645-00-NIB-0149—Clock, Wall, Quartz Movement, 15.5″

NSN: 6645-00-NIB-0150—Clock, Wall, Quartz Movement, Customizable Logo, 15.5″

NSN: 6645-00-NIB-0151—Clock, Wall, Self-Set Movement, 15.5″

NSN: 6645-00-NIB-0152—Clock, Wall, Self-Set Movement, Customizable Logo, 15.5″

Coverage: B-List for the Broad Government Requirement as aggregated by the General Services Administration

NPA: The Chicago Lighthouse for People Who are Blind or Visually Impaired, Chicago, IL

Contracting Activity: General Services Administration, New York, NY

Barry S. Lineback,
Director, Business Operations.

[FR Doc. 2013-21355 Filed 8-29-13; 8:45 am]

BILLING CODE 6353-01-P